DEPARTMENT OF THE INTERIOR

National Park Service

Notice of Inventory Completion: Pacific Lutheran University, Tacoma, WA

AGENCY: National Park Service, Interior.

ACTION: Notice.

Notice is here given in accordance with the Native American Graves Protection and Repatriation Act (NAGPRA), 25 U.S.C. 3003, of the completion of an inventory of human remains and associated funerary objects in the possession of Pacific Lutheran University, Tacoma, WA. The human remains and associated funerary objects were removed from an unknown site in the Southwestern United States.

This notice is published as part of the National Park Service's administrative responsibilities under NAGPRA, 25 U.S.C. 3003 (d)(3). The determinations in this notice are the sole responsibility of the museum, institution, or Federal agency that has control of the Native American human remains and associated funerary object. The National Park Service is not responsible for the determinations in this notice.

A detailed assessment of the human remains was made by Pacific Lutheran University professional staff in consultation with representatives of the Salt River Pima-Maricopa Indian Community of the Salt River Reservation, Arizona; on behalf of the Ak Chin Indian Community of the Maricopa (Ak Chin) Indian Reservation, Arizona; Gila River Indian Community of the Gila River Indian Reservation, Arizona; Tohono O'odham Nation of Arizona; and themselves.

At unknown date, human remains representing a minimum of one individual were removed from an unknown site in Southwestern United States. At an unknown date, the human remains were acquired by Jens Knudsen, a biology professor at Pacific Lutheran University and private collector. Mrs. Knudsen, the widow of Mr. Knudsen, transferred the human remains to Pacific Lutheran University. No known individual was identified. The two associated funerary objects are one bag of pebbles and one dog skeleton.

The human remains and associated funerary objects are in a box labeled “Hohokam.” During consultation, Salt River Pima tribal representative stated that dogs were sometimes interred with an individual. Based on the donor's collection history, it is reasonable to believe that the human remains are Native American. Based on museum documentation and information during consultation, it is reasonable to believe the human remains are Hohokam.

Archeological evidence has demonstrated a strong relationship of shared group identity between the Hohokam and the present-day O'odham (Pima and Papago) and Hopi. The O'odham people are currently represented by the Ak Chin Indian Community of the Maricopa (Ak Chin) Indian Reservation, Arizona; Gila River Indian Community of the Gila River Indian Reservation, Arizona; Salt River Pima-Maricopa Indian Community of the Salt River Reservation, Arizona; and Tohono O'odham Nation of Arizona. In 1990, representatives of the Ak Chin Indian Community of the Maricopa (Ak Chin) Indian Reservation, Arizona; Gila River Indian Community of the Gila River Indian Reservation, Arizona; Salt River Pima-Maricopa Indian Community of the Salt River Reservation, Arizona; and Tohono O'odham Nation of Arizona issued a joint policy statement claiming ancestral ties to the Hohokam cultural traditions.

O'odham oral traditions indicate that some of the Hohokam people migrated north and joined the Hopi. In 1994, representatives of the Hopi Tribe of Arizona issued a statement claiming cultural affiliation with Hohokam cultural traditions. Zuni oral traditions mention Hawikuh, a Zuni community, as a destination of settlers from the Hohokam area. In 1995, representatives of the Zuni Tribe of the Zuni Reservation, New Mexico issued a statement claiming cultural affiliation with the Hohokam cultural traditions.

Officials of the Pacific Lutheran University have determined that, pursuant to 25 U.S.C. 3001 (9-10), the human remains described above represent the physical remains of one individual of Native American ancestry. Officials of the Pacific Lutheran University also have determined that, pursuant to 25 U.S.C. 3001 (3)(A), the two objects described above is reasonably believed to have been placed with or near individual human remains at the time of death or later as part of the death rite or ceremony. Lastly, officials of the Pacific Lutheran University have determined that, pursuant to 25 U.S.C. 3001 (2), there is a relationship of shared group identity that can be reasonably traced between the Native American human remains and associated funerary objects and the Ak Chin Indian Community of the Maricopa (Ak Chin) Indian Reservation, Arizona; Gila River Indian Community of the Gila River Indian Reservation, Arizona; Hopi Tribe of Arizona; Salt River Pima-Maricopa Indian Community of the Salt River Reservation, Arizona; Tohono O'odham Nation of Arizona; and Zuni Tribe of the Zuni Reservation, New Mexico.

Representatives of any other Indian tribe that believes itself to be culturally affiliated with the human remains and associated funerary objects should contact David R. Huelsbeck, Anthropology Department, Pacific Lutheran University, Tacoma, WA 98447, telephone (253) 535-7196, before August 28, 2006. Repatriation of the human remains and associated funerary object to the Salt River Pima-Maricopa Indian Community of the Salt River Reservation, Arizona; on behalf of the Ak Chin Indian Community of the Maricopa (Ak Chin) Indian Reservation, Arizona; Gila River Indian Community of the Gila River Indian Reservation, Arizona; Tohono O'odham Nation of Arizona; and themselves may proceed after that date if no additional claimants come forward.

Pacific Lutheran University is responsible for notifying Ak Chin Indian Community of the Maricopa (Ak Chin) Indian Reservation, Arizona; Gila River Indian Community of the Gila River Indian Reservation, Arizona; Hopi Tribe of Arizona; Salt River Pima-Maricopa Indian Community of the Salt River Reservation, Arizona; Tohono O'odham Nation of Arizona; and Zuni Tribe of the Zuni Reservation, New Mexico that this notice has been published.

Dated: July 13, 2006.
Sherry Hutt,
Manager, National NAGPRA Program.

[FR Doc. E6-11999 Filed 7-26-06; 8:45 am]

BILLING CODE 4312-50-S